DEPARTMENT OF HOMELAND SECURITY

Federal Emergency Management Agency

[Docket ID FEMA-2012-0003; Internal Agency Docket No. FEMA-B-1269]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Madison | City of Huntsville (11-04-5937P) | The Honorable Tommy Battle, Mayor, City of Huntsville, P.O. Box 308, Huntsville, AL 35804 | City Hall, 308 Fountain Circle, Huntsville, AL 35801 | http://www.bakeraecom.com/index.php/alabama/madison-4/ | October 11, 2012 | 010153
Mobile | Unincorporated areas of Mobile County (12-04-0775P) | The Honorable Connie Hudson, President, Mobile County Commission, P.O. Box 1443, Mobile, AL 36633 | Mobile County, Government Plaza, Engineering Department, 205 Government Street, 3rd Floor, South Tower, Mobile, AL 36644 | http://www.bakeraecom.com/index.php/alabama/mobile/ | October 12, 2012 | 015008
Tuscaloosa | City of Tuscaloosa (11-04-6057P) | The Honorable Walter Maddox, Mayor, City of Tuscaloosa, 2201 University Boulevard, Tuscaloosa, AL 35401 | Engineering Department, 2201 University Boulevard, Tuscaloosa, AL 35401 | http://www.bakeraecom.com/index.php/alabama/tuscaloosa/ | October 11, 2012 | 010203
Tuscaloosa | Unincorporated areas of Tuscaloosa County (12-04-0429P) | The Honorable W. Hardy McCollum, President, Tuscaloosa County Commission, 714 Greensboro Avenue, Tuscaloosa, AL 35401 | Tuscaloosa County Engineering Department, 2810 35th Street, Tuscaloosa, AL 35401 | http://www.bakeraecom.com/index.php/alabama/tuscaloosa/ | September 28, 2012 | 010201
Arizona:
Pima | Town of Sahuarita (12-09-1800P) | The Honorable Duane Blumberg, Mayor, Town of Sahuarita, 375 West Sahuarita Center Way, Sahuarita, AZ 85629 | Public Works Department, 375 West Sahuarita Center Way, Sahuarita, AZ 85629 | http://www.r9map.org/Docs/12-09-1800P-040137-102IC.pdf | November 2, 2012 | 040137
Pima | Unincorporated areas of Pima County (12-09-1311P) | The Honorable Ramon Valadez, Chairman, Pima County Board of Supervisors, 130 West Congress Street, 11th Floor, Tucson, AZ 85701 | Pima County Flood Control District, 97 East Congress Street, 3rd Floor, Tucson, AZ 85701 | http://www.r9map.org/Docs/12-09-1311P-040073-102IAC.pdf | October 12, 2012 | 040073
Yavapai | Town of Clarkdale (11-09-3469P) | The Honorable Doug Von Gausig, Mayor, Town of Clarkdale, P.O. Box 308, Clarkdale, AZ 86324 | Public Works Department, 890 Main Street, Clarkdale, AZ 86324 | http://www.r9map.org/Docs/11-09-3469P-040095-102IAC.pdf | October 15, 2012 | 040095
Yavapai | Unincorporated areas of Yavapai County (11-09-3469P) | The Honorable Thomas Thurman, Chairman, Yavapai County Board of Supervisors, 1015 Fair Street, Prescott, AZ 86305 | Yavapai County Flood Control District, 500 South Marina Street, Prescott, AZ 86303 | http://www.r9map.org/Docs/11-09-3469P-040093-102IAC.pdf | October 15, 2012 | 040093
California:
Napa | City of St. Helena (12-09-0871P) | The Honorable Del Britton, Mayor, City of St. Helena, 1480 Main Street, St. Helena, CA 94574 | Planning Department, 1480 Main Street, St. Helena, CA 94574 | http://www.r9map.org/Docs/12-09-0871P-060208-102IAC.pdf | November 5, 2012 | 060208
Napa | Unincorporated areas of Napa County (12-09-0871P) | The Honorable Keith Caldwell, Chairman, Napa County Board of Supervisors, 1195 3rd Street, Suite 310, Napa, CA 94559 | Napa County Public Works Department, 1195 1st Street, Suite 201, Napa, CA 94559 | http://www.r9map.org/Docs/12-09-0871P-060205-102IAC.pdf | November 5, 2012 | 060205
Riverside | Unincorporated areas of Riverside County (12-09-1637P) | The Honorable John F. Tavaglione, Chairman, Riverside County Board of Supervisors, P.O. Box 1646, Riverside, CA 92502 | Riverside County Flood Control & Water Conservation District, 1995 Market Street, Riverside, CA 92501 | http://www.r9map.org/Docs/12-09-1637P-060245-102IAC.pdf | October 29, 2012 | 060245
San Bernardino | Town of Apple Valley (12-09-1775P) | The Honorable Barb Stanton, Mayor, Town of Apple Valley, 14955 Dale Evans Parkway, Apple Valley, CA 92307 | Town Hall, 14955 Dale Evans Parkway, Apple Valley, CA 92307 | http://www.r9map.org/Docs/12-09-1775P-060752-102IAC.pdf | October 15, 2012 | 060752
San Joaquin | City of Stockton (12-09-1923P) | The Honorable Ann Johnston, Mayor, City of Stockton, 425 North El Dorado Street, Stockton, CA 95202 | 345 North El Dorado Street, Stockton, CA 95202 | http://www.r9map.org/Docs/12-09-1923P-060302-102IAC.pdf | October 29, 2012 | 060302
San Joaquin | Unincorporated areas of San Joaquin County (12-09-1923P) | The Honorable Steve J. Bestolarides, Chairman, San Joaquin County Board of Supervisors, 44 North San Joaquin Street, Suite 627, Stockton, CA 95202 | 222 East Weber Avenue, Stockton, CA 95202 | http://www.r9map.org/Docs/12-09-1923P-060299-102IAC.pdf | October 29, 2012 | 060299
Colorado:
Adams | City of Westminster (11-08-0880P) | The Honorable Nancy McNally, Mayor, City of Westminster, 4800 West 92nd Avenue, Westminster, CO 80031 | Community Development, 4800 West 92nd Avenue, Westminster, CO 80031 | http://www.bakeraecom.com/index.php/colorado/adams/ | August 31, 2012 | 080008
Arapahoe | City of Centennial (12-08-0411P) | The Honorable Cathy Noon, Mayor, City of Centennial, 13133 East Arapahoe Road, Centennial, CO 80112 | Southeast Metro Stormwater Authority, 76 Inverness Drive East, Suite A, Centennial, CO 80112 | http://www.bakeraecom.com/index.php/colorado/arapahoe/ | October 29, 2012 | 080315
Arapahoe | Unincorporated areas of Arapahoe County (12-08-0411P) | The Honorable Nancy N. Sharpe, Chair, Arapahoe County Board of Commissioners, 5334 South Prince Street, Littleton, CO 80166 | Arapahoe County Public Works and Development Division, 6924 South Lima Street, Centennial, CO 80112 | http://www.bakeraecom.com/index.php/colorado/arapahoe/ | October 29, 2012 | 080011
La Plata | Unincorporated areas of La Plata County (12-08-0428P) | The Honorable Robert Lieb, Jr., Chairman, La Plata County Board of Commissioners, 1060 East 2nd Avenue, Durango, CO 81301 | Administration Office, 1060 East 2nd Avenue, Durango, CO 81301 | http://www.bakeraecom.com/index.php/colorado/la-plata/ | October 8, 2012 | 080097
Routt | City of Steamboat Springs (12-08-0379P) | The Honorable Jon B. Roberts, Manager, City of Steamboat Springs, P.O. Box 775088, Steamboat Springs, CO 80477 | City Hall Department of Planning and Community Development, 124 10th Street, Steamboat Springs, CO 80477 | http://www.bakeraecom.com/index.php/colorado/routt/ | October 22, 2012 | 080159
Florida:
Charlotte | Unincorporated areas of Charlotte County (12-04-3482P) | The Honorable Christopher Constance, Chairman, Charlotte County Board of Commissioners, 18500 Murdock Circle, Port Charlotte, FL 33948 | Building Construction Services, 18400 Murdock Circle, Port Charlotte, FL 33948 | http://www.bakeraecom.com/index.php/florida/charlotte/ | October 12, 2012 | 120061
Escambia | Pensacola Beach-Santa Rosa Island Authority (12-04-2055P) | The Honorable Dave Pavlock, Chairman, Pensacola Beach-Santa Rosa Island Authority Board of Commissioners, P.O. Box 1208, Pensacola Beach, FL 32562 | Pensacola Beach-Santa Rosa Island Authority Development Department, 1 Via De Luna Drive, Pensacola Beach, FL 32561 | http://www.bakeraecom.com/index.php/florida/escambia-2/ | November 5, 2012 | 125138
Seminole | City of Winter Springs (11-04-8261P) | The Honorable Charles Lacey, Mayor, City of Winter Springs, 1126 East State Road 434, Winter Springs, FL 32708 | Engineering Department, 1126 East State Road 434, Winter Springs, FL 32708 | http://www.bakeraecom.com/index.php/florida/seminole-2/ | October 12, 2012 | 120295
Georgia:
Cherokee | Unincorporated areas of Cherokee County (12-04-1485P) | The Honorable L. B. Ahrens, Jr., Chairman, Cherokee County Board of Commissioners, 1130 Bluffs Parkway, Canton, GA 30114 | Cherokee County Engineering Department, 1130 Bluffs Parkway, Canton, GA 30114 | http://www.bakeraecom.com/index.php/georgia/cherokee-2/ | October 29, 2012 | 130424
Fulton | City of Sandy Springs (12-04-1394P) | The Honorable Eva Galambos, Mayor, City of Sandy Springs, 7840 Roswell Road, Building 500, Sandy Springs, GA 30350 | City Hall, 7840 Roswell Road, Building 500, Sandy Springs, GA 30350 | http://www.bakeraecom.com/index.php/georgia/fulton/ | September 7, 2012 | 130669
Mississippi: Lee | City of Tupelo (12-04-2986P) | The Honorable Jack Reed, Jr., Mayor, City of Tupelo, P.O. Box 1485, Tupelo, MS 38802 | City Hall Planning Department, 71 East Troy Street, 3rd Floor, Tupelo, MS 38804 | http://www.bakeraecom.com/index.php/mississippi/lee/ | November 5, 2012 | 280100
Missouri: St. Louis | City of Chesterfield (12-07-1972P) | The Honorable Bruce Geiger, Mayor, City of Chesterfield, 690 Chesterfield Parkway, West Chesterfield, MO 63017 | City Hall Public Works Department, 690 Chesterfield Parkway, West Chesterfield, MO 63017 | http://www.starr-team.com/starr/LOMR/Pages/RegionVII.aspx | October 26, 2012 | 290896
New York:
Rockland | Town of Clarkstown (12-02-0115P) | The Honorable Alexander J. Gromack, Supervisor, Town of Clarkstown, 10 Maple Avenue, New City, NY 10956 | Department of Environmental Control, 10 Maple Avenue, New City, NY 10956 | https://www.rampp-team.com/lomrs.htm | September 24, 2012 | 360679
Rockland | Village of Spring Valley (12-02-0115P) | The Honorable Noramie F. Jasmin, Mayor, Village of Spring Valley, 200 North Main Street, Spring Valley, NY 10977 | Village Hall Building Department, 8 Maple Avenue, Spring Valley, NY 10977 | https://www.rampp-team.com/lomrs.htm | September 24, 2012 | 365344
South Carolina: Charleston | City of Folly Beach (12-04-1535P) | The Honorable Tim Goodwin, Mayor, City of Folly Beach, P.O. Box 1692, Folly Beach, SC 29439 | City Hall, 21 Center Street, Folly Beach, SC 29439 | http://www.bakeraecom.com/index.php/southcarolina/charleston-2/ | October 12, 2012 | 455415
Tennessee: Williamson | Unincorporated areas of Williamson County (12-04-0338P) | The Honorable Rogers C. Anderson, Mayor, Williamson County, 1320 West Main Street, Suite 125, Franklin, TN 37064 | Williamson County Complex Planning Department, 1320 West Main Street, Suite 125, Franklin, TN 37064 | http://www.bakeraecom.com/index.php/tennessee/williamson/ | October 11, 2012 | 470204

(Catalog of Federal Domestic Assistance No. 97.022, “Flood Insurance.”)

Dated: September 14, 2012.
Sandra K. Knight,
Deputy Associate Administrator for Mitigation, Department of Homeland Security, Federal Emergency Management Agency.

[FR Doc. 2012-24023 Filed 9-28-12; 8:45 am]

BILLING CODE 9110-12-P